DEPARTMENT OF HEALTH AND HUMAN SERVICES

Health Resources and Services Administration

Bureau of Health Professions; All Advisory Committee Meeting; Notice of Meeting

In accordance with section 10(a)(2) of the Federal Advisory Committee Act (Pub. L. 92-463), notice is hereby given of the following meeting:

Name: Bureau of Health Professions All Advisory Committee Meeting (AACM).

Dates and Times: May 8, 2008, 8:30 a.m.-4 p.m.

Place: Hilton Washington DC/Rockville Executive Meeting Center, 1750 Rockville Pike,Rockville, MD 20852,Telephone: 301-468-1100.

Status: The meeting will be open to the public.

Purpose: The purpose of the meeting is to provide a venue for the Bureau of Health Professions' (BHPr) four advisory committees [the Council on Graduate Medical Education (COGME), the Advisory Committee on Training in Primary Care Medicine and Dentistry (ACTPCMD), the Advisory Committee on Interdisciplinary, Community-Based Linkages (ACICBL), and the National Advisory Council on Nurse Education and Practice (NACNEP)] to discuss common issues, including health professions workforce supply and demand, training and diversity, and the impact on access to primary care. The product of this meeting will be a report highlighting activities, recommendations and presentations.

Agenda: The AACM agenda will include Agency and Bureau administrative updates, cross-sharing of recommendations and committee activities, presentations from experts in interdisciplinary collaboration and the advisory committee recommendation process, and proposals for future advisory committee collaboration.

Agenda items are subject to change as priorities dictate.

For Further Information Contact: Anyone interested in obtaining a roster of members, minutes of the meeting, or other relevant information can contact Erica Pearson, MPH, Bureau of Health Professions, Office of the Associate Administrator, Health Resources and Services Administration, 5600 Fishers Lane, Room 8-15, Rockville, Maryland 20857, telephone (301) 443-8419. Information can also be found at the following Web site: http://bhpr.hrsa.gov/.

Dated: April 3, 2008.
Alexandra Huttinger,
Director, Division of Policy Review and Coordination.

[FR Doc. E8-7576 Filed 4-9-08; 8:45 am]

BILLING CODE 4165-15-P